DEPARTMENT OF COMMERCE

International Trade Administration

(A-351-602, A-583-605, A-588-602, A-549-807, A-570-814)

Continuation of Antidumping Duty Orders: Certain Carbon Steel Butt-Weld Pipe Fittings from Brazil, Taiwan, Japan, Thailand, and the People's Republic of China

AGENCY: Import Administration, International Trade Administration, Department of Commerce.

SUMMARY: As a result of the determinations by the Department of Commerce (“Department”) and the International Trade Commission (“Commission”) that revocation of these antidumping duty orders would be likely to lead to continuation or recurrence of dumping and material injury to an industry in the United States, pursuant to section 751(c) of the Tariff Act of 1930, as amended (“the Act”), the Department hereby orders the continuation of the antidumping duty orders on certain carbon steel butt-weld pipe fittings (“pipe fittings”) from Brazil, Taiwan, Japan, Thailand, and the People's Republic of China (“China”). The Department is publishing notice of the continuation of these antidumping duty orders.

EFFECTIVE DATE: November 21, 2005.

FOR FURTHER INFORMATION CONTACT: Hilary E. Sadler, Esq. or Maureen Flannery, Office 8, Import Administration, International Trade Administration, U.S. Department of Commerce, 14th Street and Constitution Ave., NW, Washington, DC 20230; telephone: (202) 482-4340 or 482-3020, respectively.

SUPPLEMENTARY INFORMATION:

Background

On December 1, 2004, the Department initiated and the Commission instituted sunset reviews of the antidumping duty orders on pipe fittings from Brazil, Taiwan, Japan, Thailand, and China pursuant to section 751(c) of the Act.¹ As a result of its review, the Department found that revocation of the antidumping duty orders would be likely to lead to continuation or recurrence of dumping and notified the Commission of the magnitude of the margins likely to prevail were the orders to be revoked.²

¹ See Initiation of Five-Year (“Sunset”) Reviews, 69 FR 69891 (December 1, 2004).

² See Certain Carbon Steel Butt-Weld Pipe Fittings from Brazil, Taiwan, Japan, Thailand, and the People's Republic of China; Final Results of the Expedited Sunset Reviews of the Antidumping Duty Orders, 70 FR 39486 (July 8, 2005).

On October 31, 2005, the Commission determined, pursuant to section 751(c) of the Act, that revocation of the antidumping duty orders on pipe fittings from Brazil, Taiwan, Japan, Thailand, and China would be likely to lead to continuation or recurrence of material injury to an industry in the United States within a reasonably foreseeable time. See Carbon Steel Butt-Weld Pipe Fittings from Brazil, China, Japan, Taiwan, and Thailand, 70 FR 66847 (November 3, 2005), USITC Publication 3809 (October 2005) (Investigations Nos. 731-TA-308-310, 520, and 521 (Second Review)).

Scope of the Orders

The products covered by these orders are pipe fittings from Brazil, Taiwan, Japan, Thailand, and China. Pipe fittings from Brazil, Taiwan, and Japan are defined as carbon steel butt-weld pipe fittings, other than couplings, under 14 inches in diameter, whether finished or unfinished, that have been formed in the shape of elbows, tees, reducer, caps, etc., and, if forged, have been advanced after forging. These advancements may include any one or more of the following: coining, heat treatment, shot blasting, grinding, die stamping or painting. Such merchandise was classifiable under Tariff Schedules of the United States Annotated (“TSUSA”) item number 610.8800. These imports are currently classifiable under the Harmonized Tariff Schedule of the United States (“HTSUS”) item number 7307.93.30.

Pipe fittings from Thailand and China are defined as carbon steel butt-weld pipe fittings, having an inside diameter of less than 14 inches, imported in either finished or unfinished form. These formed or forged pipe fittings are used to join sections in piping systems where conditions require permanent, welded connections, as distinguished from fittings based on other fastening methods (e.g., threaded, grooved, or bolted fittings). These imports are currently classifiable under the HTSUS item number 7307.93.30.

The TSUSA and HTSUS subheadings are provided for convenience and customs purposes. The written description remains dispositive as to the scope of the product coverage for each of these orders.

Determination

As a result of the determinations by the Department and the Commission that revocation of these antidumping duty orders would be likely to lead to continuation or recurrence of dumping and material injury to an industry in the United States, pursuant to section 751(d)(2) of the Act, the Department hereby orders the continuation of the antidumping duty orders on pipe fittings from Brazil, Taiwan, Japan, Thailand, and China.

U.S. Customs and Border Protection will continue to collect antidumping duty deposits at the rates in effect at the time of entry for all imports of subject merchandise. The effective date of the continuation for these orders is the date of publication in the Federal Register of this Notice of Continuation. Pursuant to section 751(c)(2) of the Act, the Department intends to initiate the next five-year review of these antidumping orders not later than October 2010.

These sunset reviews and this continuation notice are in accordance with section 751(c) of the Act and published pursuant to 777(i) of the Act.

Dated: November 10, 2005.
Stephen J. Claeys,
Acting Assistant Secretary for Import Administration.

[FR Doc. E5-6400 Filed 11-18-05; 8:45 am]

BILLING CODE 3510-DS-S